DEPARTMENT OF TRANSPORTATION

Federal Aviation Administration

Notice of Intent To Rule on Application 04-03-U-00-BFD To Use the Revenue From a Passenger Facility Charge (PFC) at Bradford Regional Airport, Lewis Run, PA

AGENCY: Federal Aviation Administration (FAA), DOT.

ACTION: Notice of intent to rule on application.

SUMMARY: The FAA proposes to rule and invites public comment on the application to use the revenue from a PFC at Bradford Regional Airport under the provisions of the Aviation Safety and Capacity Expansion Act of 1990 (Title IX of the Omnibus Budget Reconciliation Act of 1990) (Public Law 101-508) and Part 158 of the Federal Aviation Regulations (14 CFR Part 158).

DATES: Comments must be received on or before November 15, 2004.

ADDRESSES: Comments on this application may be mailed or delivered in triplicate to the FAA at the following address: Ms. Lori Ledebohm, PFC Contact, Harrisburg Airports District Office, 3905 Hartzdale Drive, Suite 508, Camp Hill, PA 17011.

In addition, one copy of any comments submitted to the FAA must be mailed or delivered to Thomas C. Frungillo, Airport Manager of the Bradford Regional Airport Authority at the following address: Bradford Regional Airport, 212 Airport Road, Suite E, Lewis Run, Pennsylvania 16738

Air carriers and foreign air carriers may submit copies of written comments previously provided to the Bradford Regional Airport Authority under section 158.23 of Part 158.

FOR FURTHER INFORMATION CONTACT: Ms. Lori Ledebohm, PFC Contact, Harrisburg Airports District Office, 3905 Hartzdale Dr. Suite 508, Camp Hill, Pennsylvania 17011, (717) 730-2835. The application may be reviewed in person at this same location.

SUPPLEMENTARY INFORMATION: The FAA proposes to rule and invites public comment on the application to use the revenue from a PFC at Bradford Regional Airport under the provisions of the Aviation Safety and Capacity Expansion Act of 1990 (Title IX of the Omnibus Budget Reconciliation Act of 1990) (Public Law 101-508) and Part 158 of the Federal Aviation Regulations (14 CFR Part 158).

On August 9, 2004, the FAA determined that the application to use the revenue from a PFC submitted by Bradford Regional Airport Authority was substantially complete within the requirements of section 158.25 of Part 158. The FAA will approve or disapprove the application, in whole or in part, no later than December 7, 2004.

The following is a brief overview of the application.

PFC Application No.: 04-03-U-00-AVP.

Level of the proposed PFC: $4.50.

Proposed charge effective date: May 1, 2003.

Proposed charge expiration date: December 1, 2009.

Total estimated PFC revenue: $7,996.

Brief description of proposed project(s): Deicing Equipment.

Class or classes of air carriers which the public agency has requested not be required to collect PFCs: Air Taxi/Commercial Operations filing FAA Form 1800-31.

Any person may inspect the application in person at the FAA office listed above under FOR FURTHER INFORMATION CONTACT and at the FAA regional airports office located at: Eastern Region, Airports Division, AEA-610, 1 Aviation Plaza, Jamaica, New York 11434.

In addition, any person may, upon request, inspect the application, notice and other documents germane to the application in person at the Bradford Regional Airport.

Issued in Camp Hill, PA, on September 10, 2004.
Lori Ledebohm,
PFC Contact, Harrisburg Airports District Office, Eastern Region.

[FR Doc. 04-23074 Filed 10-13-04; 8:45 am]

BILLING CODE 4910-13-M